DEPARTMENT OF ENERGY

Federal Energy Regulatory Commission

Combined Notice of Filings #1

Take notice that the Commission received the following electric corporate filings:

Docket Numbers: EC11-90-000.

Applicants: Duke Energy Indiana, Inc., Wabash Valley Power Association, Inc., Duke Energy Vermillion II, LLC.

Description: Duke Energy Vermillion II, LLC, et al. application for authorization under section 203 of the Federal Power Act.

Filed Date: 06/22/2011.

Accession Number: 20110622-5076.

Comment Date: 5 p.m. Eastern Time on Wednesday, July 13, 2011.

Take notice that the Commission received the following exempt wholesale generator filings:

Docket Numbers: EG11-96-000.

Applicants: Stony Creek Energy LLC.

Description: Notice of Self-Certification of Exempt Wholesale Generator Status of Stony Creek Energy LLC under EG11-96.

Filed Date: 06/23/2011.

Accession Number: 20110623-5036.

Comment Date: 5 p.m. Eastern Time on Thursday, July 14, 2011.

Take notice that the Commission received the following electric rate filings:

Docket Numbers: ER11-2547-002.

Applicants: New York Independent System Operator, Inc.

Description: New York Independent System Operator, Inc. submits tariff filing per 35: Clarification of Import Supplier Guarantee Formula to be effective 5/18/2011.

Filed Date: 06/22/2011.

Accession Number: 20110622-5075.

Comment Date: 5 p.m. Eastern Time on Wednesday, July 6, 2011.

Docket Numbers: ER11-3120-001.

Applicants: Genon Power Midwest, LP.

Description: Genon Power Midwest, LP submits tariff filing per 35: Reactive Rate Schedule Compliance to be effective 6/1/2011.

Filed Date: 06/22/2011.

Accession Number: 20110622-5057.

Comment Date: 5 p.m. Eastern Time on Wednesday, July 13, 2011.

Docket Numbers: ER11-3443-002.

Applicants: UNS Electric, Inc.

Description: UNS Electric, Inc. submits tariff filing per 35: UNSE SGIA Compliance Filing to be effective 4/28/2011.

Filed Date: 06/22/2011.

Accession Number: 20110622-5066.

Comment Date: 5 p.m. Eastern Time on Wednesday, July 13, 2011.

Docket Numbers: ER11-3444-002.

Applicants: Tucson Electric Power Company.

Description: Tucson Electric Power Company submits tariff filing per 35: TEP SGIA Compliance Filing to be effective 4/28/2011.

Filed Date: 06/22/2011.

Accession Number: 20110622-5052.

Comment Date: 5 p.m. Eastern Time on Wednesday, July 13, 2011.

Docket Numbers: ER11-3458-001.

Applicants: Northern States Power Company, a Wisconsin.

Description: Northern States Power Company, a Wisconsin corporation submits tariff filing per 35.17(b): 2011-6-23_NSPW-DPC R&R Pole Lic Agmt_295 to be effective 3/31/2011.

Filed Date: 06/23/2011.

Accession Number: 20110623-5040.

Comment Date: 5 p.m. Eastern Time on Thursday, July 14, 2011.

Docket Numbers: ER11-3581-001.

Applicants: PJM Interconnection, LLC, Monongahela Power Company.

Description: PJM Interconnection, LLC submits tariff filing per 35.17(b): Monongahela Power, et al., submits Errata to the Third Revised Service Agreement 1395 to be effective 5/17/2011.

Filed Date: 06/22/2011.

Accession Number: 20110622-5026.

Comment Date: 5 p.m. Eastern Time on Wednesday, July 13, 2011.

Docket Numbers: ER11-3847-000.

Applicants: Public Service Company of New Mexico.

Description: Public Service Company of New Mexico submits tariff filing per 35.13(a)(2)(iii: First Revised Service Agreement No. 317 to be effective 6/1/2011.

Filed Date: 06/22/2011.

Accession Number: 20110622-5000.

Comment Date: 5 p.m. Eastern Time on Wednesday, July 13, 2011.

Docket Numbers: ER11-3848-000.

Applicants: NSTAR Electric Company.

Description: Tariff Filing of NSTAR Electric Company.

Filed Date: 06/21/2011.

Accession Number: 20110621-5121.

Comment Date: 5 p.m. Eastern Time on Tuesday, July 12, 2011.

Docket Numbers: ER11-3849-000.

Applicants: Southern California Edison Company.

Description: Southern California Edison Company submits tariff filing per 35.13(a)(2)(iii: Amendment to IFA with CSDLA to be effective 6/23/2011.

Filed Date: 06/22/2011.

Accession Number: 20110622-5032.

Comment Date: 5 p.m. Eastern Time on Wednesday, July 13, 2011.

Docket Numbers: ER11-3850-000.

Applicants: NorthWestern Corporation.

Description: NorthWestern Corporation submits tariff filing per 35.13(a)(2)(iii: OATT (MT) Revision for Intra-Hour Scheduling to be effective 7/1/2011.

Filed Date: 06/22/2011.

Accession Number: 20110622-5045.

Comment Date: 5 p.m. Eastern Time on Wednesday, July 13, 2011.

Docket Numbers: ER11-3851-000.

Applicants: Northern States Power Company, a Minnesota corporation.

Description: Northern States Power Company, a Minnesota corporation submits tariff filing per 35.13(a)(2)(iii: 2011-6-22_NSP-WPL-Cert of Con_311 to be effective 6/20/2011.

Filed Date: 06/22/2011.

Accession Number: 20110622-5047.

Comment Date: 5 p.m. Eastern Time on Wednesday, July 13, 2011.

Docket Numbers: ER11-3852-000.

Applicants: Northern States Power Company, a Wisconsin corporation.

Description: Northern States Power Company, a Wisconsin corporation submits tariff filing per 35.13(a)(2)(iii: 2011-6-22_NSPW-WPL-Cert of Con_311 to be effective 6/20/2011.

Filed Date: 06/22/2011.

Accession Number: 20110622-5048.

Comment Date: 5 p.m. Eastern Time on Wednesday, July 13, 2011.

Docket Numbers: ER11-3853-000.

Applicants: Black Hills Power, Inc.

Description: Black Hills Power, Inc. submits tariff filing per 35: Revised Baseline OATT of Black Hills Power, Inc. to be effective 9/30/2010.

Filed Date: 06/22/2011.

Accession Number: 20110622-5079.

Comment Date: 5 p.m. Eastern Time on Wednesday, July 13, 2011.

Docket Numbers: ER11-3854-000.

Applicants: New York State Electric & Gas Corporation.

Description: New York State Electric & Gas Corporation submits tariff filing per 35.1: NYSEG Facilities Agreement with NYPA 2011 Update to be effective 9/1/2011.

Filed Date: 06/22/2011.

Accession Number: 20110622-5080.

Comment Date: 5 p.m. Eastern Time on Wednesday, July 13, 2011.

Docket Numbers: ER11-3855-000.

Applicants: Black Hills Power, Inc.

Description: Black Hills Power, Inc. submits tariff filing per 35.13(a)(2)(iii: Black Hills Power, Inc., JOATT Section 23 to be effective 6/23/2011.

Filed Date: 06/22/2011.

Accession Number: 20110622-5085.

Comment Date: 5 p.m. Eastern Time on Wednesday, July 13, 2011.

Docket Numbers: ER11-3856-000.

Applicants: California Independent System Operator Corporation.

Description: California Independent System Operator Corporation submits tariff filing per 35.13(a)(2)(iii: 2011-06-22 CAISO BCR-ED Amendment to be effective 6/23/2011.

Filed Date: 06/22/2011.

Comment Date: 5 p.m. Eastern Time on Wednesday, July 13, 2011.

Docket Numbers: ER11-3857-000.

Applicants: Milford Power Company, LLC.

Description: Milford Power Company, LLC submits tariff filing per 35.37: Revisions to Market-Based Rate Tariff to be effective 6/24/2011.

Filed Date: 06/23/2011.

Accession Number: 20110623-5016.

Comment Date: 5 p.m. Eastern Time on Thursday, July 14, 2011.

Docket Numbers: ER11-3858-000.

Applicants: ECP Energy I, LLC.

Description: ECP Energy I, LLC submits tariff filing per 35.37: Revisions to Market-Based Rate Tariff to be effective 6/24/2011.

Filed Date: 06/23/2011.

Accession Number: 20110623-5038.

Comment Date: 5 p.m. Eastern Time on Thursday, July 14, 2011.

Docket Numbers: ER11-3859-000.

Applicants: Dighton Power, LLC.

Description: Dighton Power, LLC submits tariff filing per 35.37: Revisions to Market-Based Rate Tariff to be effective 6/24/2011.

Filed Date: 06/23/2011.

Accession Number: 20110623-5039.

Comment Date: 5 p.m. Eastern Time on Thursday, July 14, 2011.

Docket Numbers: ER11-3860-000.

Applicants: Westar Energy, Inc.

Description: Westar Energy, Inc. submits tariff filing per 35.13(a)(2)(iii: KEPCo, Revisions to Attachment A—Delivery Points to be effective 8/1/2011.

Filed Date: 06/23/2011.

Accession Number: 20110623-5041.

Comment Date: 5 p.m. Eastern Time on Thursday, July 14, 2011.

Docket Numbers: ER11-3861-000.

Applicants: Empire Generating Co, LLC.

Description: Empire Generating Co, LLC submits tariff filing per 35.37: Revisions to Market-Based Rate Tariff to be effective 6/24/2011.

Filed Date: 06/23/2011.

Accession Number: 20110623-5050.

Comment Date: 5 p.m. Eastern Time on Thursday, July 14, 2011.

Docket Numbers: ER11-3862-000.

Applicants: PacifiCorp.

Description: PacifiCorp's Notice of Termination of Installation Agreement between PacifiCorp and WAPA of Spring Creek Substation Capacitor Bank.

Filed Date: 06/23/2011.

Accession Number: 20110623-5068.

Comment Date: 5 p.m. Eastern Time on Thursday, July 14, 2011.

Docket Numbers: ER11-3863-000.

Applicants: ECP Energy I, LLC.

Description: ECP Energy I, LLC submits tariff filing per 35.37: Revisions to Market-Based Rate Filing to be effective 6/24/2011.

Filed Date: 06/23/2011.

Accession Number: 20110623-5072.

Comment Date: 5 p.m. Eastern Time on Thursday, July 14, 2011.

Docket Numbers: ER11-3864-000.

Applicants: EquiPower Resources Management, LLC.

Description: EquiPower Resources Management, LLC submits tariff filing per 35.37: Revisions to Market-Based Rate Tariff to be effective 6/24/2011.

Filed Date: 06/23/2011.

Accession Number: 20110623-5073.

Comment Date: 5 p.m. Eastern Time on Thursday, July 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: June 23, 2011.
Nathaniel J. Davis, Sr.,
Deputy Secretary.

[FR Doc. 2011-16692 Filed 7-1-11; 8:45 am]

BILLING CODE 6717-01-P